SECURITIES AND EXCHANGE COMMISSION

[Release No. 34-63936; File No. SR-DTC-2011-03]

Self-Regulatory Organizations; the Depository Trust Company; Notice of Filing and Immediate Effectiveness of Proposed Rule Change Regarding Providing Participants With a New Optional Settlement Web Interface

February 22, 2011.

Pursuant to Section 19(b)(1) of the Securities Exchange Act of 1934 (“Act”),¹ notice is hereby given that on February 7, 2011, The Depository Trust Company (“DTC”) filed with the Securities and Exchange Commission (“Commission”) the proposed rule change as described in Items I and II below, which Items have been prepared primarily by DTC. DTC filed the proposed rule change pursuant to Section 19(b)(3)(A)(iii) of the Act ² and Rule 19b-4(f)(4) ³ thereunder so that the proposal was effective upon filing with the Commission. The Commission is publishing this notice to solicit comments on the proposed rule change from interested persons.

¹ 15 U.S.C. 78s(b)(1).

² 15 U.S.C. 78s(b)(3)(A)(iii).

³ 17 CFR 240.19b-4(f)(4).

I. Self-Regulatory Organization's Statement of the Terms of Substance of the Proposed Rule Change

The proposed rule change will establish a new browser-based interface, the “Settlement Web,” that allows Participants to view their settlement-related activity.

II. Self-Regulatory Organization's Statement of the Purpose of, and Statutory Basis for, the Proposed Rule Change

In its filing with the Commission, DTC included statements concerning the purpose of and basis for the proposed rule change and discussed any comments it received on the proposed rule change. The text of these statements may be examined at the places specified in Item IV below. DTC has prepared summaries, set forth in sections A, B, and C below, of the most significant aspects of such statements.

A. Self-Regulatory Organization's Statement of the Purpose of, and Statutory Basis for, the Proposed Rule Change

DTC Participants have the ability to view all of their settlement related activity using different functions in the Participant Browser System (“PBS”).⁴ Based on request from its Participants, DTC has created a more user-friendly interface called Settlement Web that allows Participants to view their settlement related activity. The Settlement Web will reduce the amount of time that Participants spend in PBS by increasing the efficiency in searching for settlement activity. Participants that chose to use the Settlement Web will have access to a Navigation Bar that will provide Participants with improved inquiry and update capabilities for their settlement transactions. Participants will also have the ability to view different settlement related activities using the Dashboard in the Settlement Web homepage. Additionally, Participants will have the option to use an alert function located within the Settlement Web's dashboard to provide them to set alerts regarding settlement related events.⁵ Participants will be able to customize the function to control which events for which they want to be notified. These alerts will reduce the amount of time spent in PBS because Participants will no longer have to manually check multiple settlement functions to be made aware of various settlement events. Notifications will be made available to Participants through the alerts window in the dashboard or by e-mail. The e-mail will notify the Participant that an alert has been triggered, but the Participant will be required to sign into the Dashboard in order to receive the alert message. While this alert message will provide Participants with greater efficiency in how they view settlement events, Participants will continue to have the responsibility to independently check the settlement functions to verify all of their settlement related events.

⁴ In 2008, DTCC completed a multi-year initiative to transition all Participant Terminal System (“PTS”) functions to PBS. Now, rather than toggle between the two tools, Participants can manage all their needs through the web-based PBS, which is more flexible than PTS while offering greater functionality. However, Participants are still able to use PTS for most of their settlement activities.

⁵ Events, which include, for example, settlement extension broadcasts and the receipt of a specific delivery, are regularly scheduled processing milestones associated with a given settlement cycle.

Additionally, DTC is making unrelated technical updates to its Settlement Service Guide to conform to certain rule changes that have previously been filed with the Commission.⁶ These changes will necessitate revisions to the existing DTC Settlement Guide and those revisions are attached to DTC's proposed rule filing as Exhibit 5.

⁶ In 2010, DTC implemented a new function that allows DTC Participants to set a profile in PBS so that they can request that excess funds be wired to their settling bank account at approximately 3:20 p.m. Eastern Time. Securities Exchange Act Release No. 61922 (Apr. 15, 2010), 75 FR 21072 (Apr. 22, 2010). Also in 2010, DTC updated its processing schedule in order to extend the end-of-day cutoff time for processing pledges and releases to and from the New York Federal Reserve Bank from 3 p.m. to 5 p.m. Securities Exchange Act Release No. 63415 (Dec. 2, 2010), 75 FR 76506 (Dec. 8, 2010).

DTC states that the proposed rule change is consistent with the requirements of the Act and the rules and regulations thereunder applicable to DTC because it will promote efficiencies in the way that Participants view settlement related transactions and as such will promote the safeguarding of securities and funds in DTC's custody or control or for which it is responsible.

B. Self-Regulatory Organization's Statement on Burden on Competition

DTC does not believe that the proposed rule change will have any impact or impose any burden on competition.

C. Self-Regulatory Organization's Statement on Comments on the Proposed Rule Change Received From Members, Participants, or Others

DTC has not solicited or received written comments relating to the proposed rule change. DTC will notify the Commission of any written comments it receives.

III. Date of Effectiveness of the Proposed Rule Change and Timing for Commission Action

The foregoing rule change has become effective upon filing pursuant to Section 19(b)(3)(A)(iii) of the Act ⁷ and Rule 19b-4(f)(4) ⁸ because the proposed rule change effects a change in an existing service of DTC that (i) does not adversely affect the safeguarding of securities or funds in DTC's custody or control or for which it is responsible and (ii) does not significantly affect the respective rights of DTC or persons using the service. At any time within 60 days of the filing of the proposed rule change, the Commission summarily may temporarily suspend such rule change if it appears to the Commission that such action is necessary or appropriate in the public interest, for the protection of investors, or otherwise in furtherance of the purposes of the Act.

⁷ Supra note 2.

⁸ Supra note 3.

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml) or

• Send an e-mail to rule-comments@sec.gov. Please include File No. SR-DTC-2011-03 on the subject line.

Paper Comments

• Send paper comments in triplicate to Elizabeth M. Murphy, Secretary, Securities and Exchange Commission, 100 F Street, NE., Washington, DC 20549-1090.

All submissions should refer to File No. SR-DTC-2011-03. This file number should be included on the subject line if e-mail is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street, NE., Washington, DC 20549, on official business days between the hours of 10 a.m. and 3 p.m. Copies of such filings also will be available for inspection and copying at DTC's principal office and DTC's Web site at http://www.dtcc.com/downloads/legal/rule_filings/2011/dtc/2011-03.pdf. All comments received will be posted without change; the Commission does not edit personal identifying information from submissions. You should submit only information that you wish to make available publicly. All submissions should refer to File No. SR-DTC-2011-03 and should be submitted on or before March 18, 2011.

For the Commission by the Division of Trading and Markets, pursuant to delegated authority.⁹
⁹ 17 CFR 200.30-3(a)(12).
Cathy H. Ahn,
Deputy Secretary.

[FR Doc. 2011-4289 Filed 2-24-11; 8:45 am]

BILLING CODE 8011-01-P